DEPARTMENT OF COMMERCE

National Oceanic and Atmospheric Administration

RIN 0648-XP87

Mid-Atlantic Fishery Management Council; Public Meeting

AGENCY: National Marine Fisheries Service (NMFS), National Oceanic and Atmospheric Administration (NOAA), Commerce.

ACTION: Notice of public meetings.

SUMMARY: The Mid-Atlantic Fishery Management Council (MAFMC) will hold a public meeting on July 14, 2009. The MAFMC's Scientific and Statistical Committee (SSC) will hold a public meeting on July 15-16, 2009. The MAFMC's Summer Flounder, Scup, Black Sea Bass, and Bluefish Monitoring Committee's (MC) will hold a meeting on July 17, 2009.

DATES: Tuesday, July 14, 2009, from 8:30 a.m. to 4:30 p.m. (MAFMC Meeting); Wednesday and Thursday, July 15-16, 2009, from 8 a.m. to 5 p.m. (SSC Meeting); Friday, July 17, 2009, from 9 a.m. to 4 p.m. (MC Meetings)

ADDRESSES: The meeting will be held at the Hilton Philadelphia Airport, 4509 Island Avenue, Philadelphia, PA 19153; telephone: (215) 365-4150.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: On July 14, the MAFMC will be meeting to discuss annual catch limits (ACLs) and accountability measures (AMs). Specifically, to determine how ACLs and AMs could be developed and applied to the MAFMC managed stocks. On July 15, the SSC will meet to discuss scientific uncertainty and the development of control rules for acceptable biological catch (ABC), as well as the issues relating to the development of a MAFMC risk policy. On July 16, the SSC will meet for a second day to review stock status and specify overfishing level and ABC for summer flounder, scup, black sea bass, and bluefish for 2010, and review and comment on proposed 2010 quota specifications and management measures for summer flounder, scup, black sea bass, and bluefish. On July 17, the Summer Flounder, Scup, Black Sea Bass, and Bluefish Monitoring Committee's will be meeting to recommend the 2010 commercial management measures, commercial quotas, and recreational harvest limits for summer flounder, scup, and black sea bass. The Bluefish Monitoring Committee will meet to recommend commercial management measures, recreational management measures, and a commercial quota for bluefish for 2010.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: June 17, 2009.
Tracey L. Thompson,
Acting Director, Office of Sustainable Fisheries, National Marine Fisheries Service.

[FR Doc. E9-14571 Filed 6-19-09; 8:45 am]

BILLING CODE 3510-22-S